DEPARTMENT OF HEALTH AND HUMAN SERVICES

Health Resources and Services Administration

National Advisory Council on Migrant Health

AGENCY: Health Resources and Services Administration (HRSA), Department of Health and Human Services (HHS).

ACTION: Notice of request for nominations for voting members.

SUMMARY: HRSA is requesting nominations to fill vacancies on the National Advisory Council on Migrant Health (NACMH). The NACMH is authorized and governed under the Public Health Service (PHS) Act, as amended.

DATES: The agency will receive nominations on a continuous basis.

ADDRESSES: All nominations must be submitted in hardcopy to the Designated Federal Official (DFO), NACMH, Strategic Initiatives and Planning Division, Office of Policy and Program Development, Bureau of Primary Health Care, HRSA, 16N38B, 5600 Fishers Lane, Rockville, Maryland 20857.

FOR FURTHER INFORMATION CONTACT: All requests for information regarding the NACMH nominations should be sent to Esther Paul, DFO, NACMH, HRSA, in one of three ways: (1) Send a request to the following address: Esther Paul, Office of Policy and Program Development, Bureau of Primary Health Care, HRSA, 5600 Fishers Lane, 16N38B, Rockville, Maryland 20857; (2) call (301) 594-4300; or (3) send an email to epaul@hrsa.gov.

SUPPLEMENTARY INFORMATION: As authorized under section 217 of the PHS Act, as amended (42 U.S.C. 218), the Secretary established the NACMH. The NACMH is governed by the Federal Advisory Committee Act (5 U.S.C. Appendix 2), which sets forth standards for the formation and use of advisory committees.

The NACMH consults with and makes recommendations to the HHS Secretary and the HRSA Administrator concerning the organization, operation, selection, and funding of migrant health centers and other entities under grants and contracts under section 330 of the PHS Act (42 U.S.C. 254b).

The authorizing statute and the NACMH Charter require that the Council consist of 15 members, each serving a 4-year term. Twelve Council members are required by statute to be governing board members of migrant health centers or other entities assisted under section 254b of the PHS Act. Of these 12, at least nine must be patient members of health center governing boards who are familiar with the delivery of health care to migratory and seasonal agricultural workers. The remaining three Council members must be individuals qualified by training and experience in the medical sciences or in the administration of health programs. New members filling a vacancy that occurred prior to expiration of a term may serve only for the remainder of such term.

Compensation: Members who are not full-time federal employees shall be paid at the rate of $200 per day, including travel time plus per diem and travel expenses in accordance with Standard Government Travel Regulations.

Specifically, HRSA is requesting nominations for:

Governing Board Members (8 Vacancies)

Nominees must be members of a governing board of a migrant health center or other entity assisted under section 330 of the PHS Act. Of the eight board member vacancies, five nominees must also be patients of the entities they represent. (The Council has four current board members who are patients.) Additionally, board member nominees must be familiar with the delivery of primary health care to migratory and seasonal agricultural workers and their families.

A complete nomination package should include the following information for each nominee: (1) A NACMH nomination form; (2) three letters of reference; (3) a statement of prior service on the NACMH; and (4) a biographical sketch of the nominee or a copy of his/her curriculum vitae. The nomination package must also state that the nominee is willing to serve as a member of the NACMH and appears to have no conflict of interest that would preclude membership. An ethics review is conducted for each selected nominee. Please contact Esther Paul at epaul@hrsa.gov and/or Carole Chamberlain at cchamberlain@hrsa.gov to obtain a nomination form.

HHS strives to ensure that the membership of HHS federal advisory committees is balanced in terms of points of view represented, consistent with the committee's authorizing statute and charter. Appointment to the NACMH shall be made without discrimination on the basis of age, race, ethnicity, gender, sexual orientation, disability, and cultural, religious, or socioeconomic status. The Department encourages nominations of qualified candidates from all groups and locations.

Amy McNulty,
Acting Director, Division of the Executive Secretariat.

[FR Doc. 2018-00096 Filed 1-5-18; 8:45 am]

BILLING CODE 4165-15-P